FEDERAL COMMUNICATIONS COMMISSION

47 CFR Part 90

[WT Docket No. 06-142; FCC 08-186]

Amendment of Section 90.20(e)(6) of the Commission's Rules

AGENCY: Federal Communications Commission.

ACTION: Final rule.

SUMMARY: This document addresses proposed revisions to the Commission's rules and policies regarding stolen vehicle recovery systems (SVRS) and the use of frequency 173.075 MHz. The Commission takes these actions in response to a petition for rulemaking filed by LoJack Corporation (LoJack), in which LoJack sought to modify the Commission's rules to accommodate its future narrowband operations on frequency 173.075 MHz, to improve the recovery services its products provide, and to permit other services in addition to SVRS. The Report and Order furthers the public interest by promoting flexibility and allowing SVRS licensees to operate with some relaxed restrictions while ensuring the continued interference protection of incumbent users.

DATES: Effective November 13, 2008.

FOR FURTHER INFORMATION CONTACT: Thomas Eng, Policy Division, Public Safety and Homeland Bureau, Federal Communications Commission, Washington, DC 20554, at (202) 418-0019, TTY (202) 418-7233, via e-mail at Thomas.Eng@fcc.gov, or via U.S. Mail at Federal Communications Commission, Wireless Telecommunications Bureau, 445 12th Street, SW., Washington, DC 20554.

SUPPLEMENTARY INFORMATION: This is a summary of the Commission's Report and Order in WT Docket No. 06-142, adopted on August 12, 2008 and released on August 13, 2008. The complete text of this document is available for inspection and copying during normal business hours in the FCC Reference Information Center, Portals II, 445 12th Street, SW., Room CY-A257, Washington, DC 20554. This document may also be purchased from the Commission's duplicating contractor, Best Copy and Printing, Inc., in person at 445 12th Street, SW., Room CY-B402, Washington, DC 20554, via telephone at (202) 488-5300, via facsimile at (202) 488-5563, or via e-mail at FCC@BCPIWEB.com. Alternative formats (computer diskette, large print, audio cassette, and Braille) are available to persons with disabilities or by sending an e-mail to FCC504@fcc.gov or calling the Consumer and Governmental Affairs Bureau at (202) 418-0530, TTY (202) 418-0432. This document is also available on the Commission's Web site at http://www.fcc.gov.

1. The major decisions in the Report and Order are as follows:

• Increases the effective radiated power (ERP) limit for narrowband (12.5 kHz bandwidth or less) base stations from 300 watts to 500 watts.

• Increases the power output limit for narrowband (12.5 kHz bandwidth or less) mobile transceivers from 2.5 watts to five watts.

• Modifies the duty cycle for base stations from one second every minute to five seconds every minute.

• Increases the tracking duty cycle for mobile transceivers from 200 milliseconds every ten seconds to 400 milliseconds every ten seconds and, correspondingly, increases the tracking duty cycle for mobile transceivers that are being tracked actively from 200 milliseconds every second to 400 milliseconds every second.

• Increases the uplink duty cycle for mobile transceivers from 1800 milliseconds every 300 seconds to 7200 milliseconds every 300 seconds.

• Retains the requirement for TV Channel 7 interference studies and requires that the studies be served upon affected TV Channel 7 stations.

• Permits the licensing of mobile transceivers by rule.

• Expands the scope of § 90.20(e)(6) to permit the tracking and recovery of lost and stolen cargo and hazardous materials, missing or wanted persons, and individuals at risk or of interest to law enforcement when established boundaries are violated. Also permits mobile transceivers to transmit automatic collision notifications, vehicle fire notifications, and carjacking alerts.

• Relaxes the limitation on emissions to permit flexibility in modulation as well as analog and digital signals.

Procedural Matters

A. Final Regulatory Flexibility Act Analysis

2. As required by section 603 of the Regulatory Flexibility Act (RFA), 5 U.S.C. 604, the Commission has prepared a Final Regulatory Flexibility Analysis of the possible impact of the rule changes contained in this Report and Order on small entities. The Final Regulatory Flexibility Act analysis is set forth in Appendix C of the Report and Order. The Commission's Consumer Information Bureau, Reference Information Center, will send a copy of this Report and Order, including the Final Regulatory Flexibility Act Analysis, to the Chief Counsel for Advocacy of the Small Business Administration.

B. Final Paperwork Reduction Act of 1995 Analysis

3. This document contains a modified information collection requirement subject to the Paperwork Reduction Act of 1995 (PRA), Public Law 104-13. It will be submitted to the Office of Management and Budget (OMB) for review under section 3507 of the PRA. Prior to submission to OMB, the Commission will publish a notice in the Federal Register seeking public comment on the modified information collection requirement. In addition, that notice will also seek comment on how the Commission might “further reduce the information collection burden for small business concerns with fewer than 25 employees” pursuant to the Small Business Paperwork Relief Act of 2002, Public Law 107-198, see 44 U.S.C. 3506(c)(4). The modified information collection contained in this order will not go into effect until OMB approves the collection. The Commission will publish a notice in the Federal Register announcing the effective date of the modified information collection.

C. Congressional Review Act Analysis

4. The Commission will send a copy of this Report and Order in a report to be sent to Congress and the Government Accountability Office pursuant to the Congressional Review Act, see 5 U.S.C. 801(a)(1)(A).

Ordering Clauses

5. Accordingly, pursuant to sections 1, 2, 4(i), 301, 302, and 303 of the Communications Act of 1934, as amended, 47 U.S.C. 151, 152, 154(i), 301, 302, 303, and §§ 1.421 and 1.425 of the Commission's rules, 47 CFR 1.421, 1.425, it is ordered that the Report and Order is hereby adopted.

6. It is further ordered that Part 90 of the Commission's Rules IS amended as set forth in Appendix B of the Report and Order, and that these Rules shall be effective November 13, 2008.

7. It is further ordered that the Commission's Consumer Information Bureau, Reference Information Center, shall send a copy of this Report and Order, including the Final Regulatory Flexibility Analysis, to the Chief Counsel for Advocacy of the U.S. Small Business Administration.

List of Subjects in 47 CFR Part 90

Common carriers; communications equipment; radio.

Federal Communications Commission.
Marlene H. Dortch,
Secretary.

Rule Changes

For reasons discussed in the preamble, the Federal Communications Commission amends 47 CFR Part 90 as follows:

PART 90—PRIVATE LAND MOBILE RADIO SERVICES

1. The authority citation for Part 90 continues to read as follows:

Authority: Sections 4(i), 11, 303(g), 303(r) and 332(c)(7) of the Communications Act of 1934, as amended, 47 U.S.C. 154(i), 161, 303(g), 303(r) and 332(c)(7).

2. Section 90.20 is amended by revising paragraph (e)(6) to read as follows:

§ 90.20 Public Safety Pool.

* * * * *

(e) * * *

(6) The frequency 173.075 MHz is available for stolen vehicle recovery systems on a shared basis with Federal stations in the fixed and mobile services.

(i) Stolen vehicle recovery systems are limited to tracking and recovering vehicles, cargo, and hazardous materials that have been reported stolen or missing; missing or wanted persons; and individuals at risk, or individuals of interest to law enforcement, only when established boundaries are violated. Stolen vehicle recovery systems are not authorized for general purpose tracking or monitoring. Mobile units may also transmit automatic collision notifications, vehicle fire notifications, and carjacking alerts.

(ii) Any type of emission may be used within a maximum authorized bandwidth of 12.5 kHz, except that stations that operate as part of a stolen vehicle recovery system that was authorized and in operation prior to May 27, 2005 may operate with a maximum authorized bandwidth of 20 kHz until May 27, 2019. For a complete listing of emission symbols allowable under this part, see § 2.201 of this chapter.

(iii) Mobile transmitters operating on this frequency with emissions authorized in a maximum bandwidth of 12.5 kHz are limited to 5.0 watts power output. Mobile transmitters operating on this frequency with emissions authorized in a maximum bandwidth of 20 kHz are limited to 2.5 watts power output.

(iv) Base station transmitters operating on this frequency with emissions authorized in a maximum bandwidth of 12.5 kHz are limited to 300 watts ERP before February 18, 2009, and 500 watts ERP thereafter. Base station transmitters operating on this frequency with emissions authorized in a maximum bandwidth of 20 kHz are limited to 300 watts ERP.

(v) Transmissions from mobiles shall be limited to 400 milliseconds for every 10 seconds, except when a vehicle is being tracked actively transmissions are limited to 400 milliseconds for every second. Alternatively, transmissions from mobiles shall be limited to 7200 milliseconds for every 300 seconds with a maximum of six such messages in any 30 minute period.

(vi) Transmissions from base stations shall be limited to a total rate of five seconds every minute.

(vii) Any entity eligible to hold authorizations in the Public Safety Pool in accordance with §§ 90.20(a) and 90.111 of this chapter is authorized by this rule to operate mobile transmitters on this frequency. No license will be issued for mobile transmitters.

(viii) Applications for base stations operating on this frequency shall require coordination with the Federal Government. Applicants shall perform an analysis for each base station that is located within 169 km (105 miles) of a TV Channel 7 transmitter of potential interference to TV Channel 7 viewers. Applicants shall serve a copy of the analysis to the licensee of the affected TV Channel 7 transmitter upon filing the application with the Commission. Such base stations will be authorized if the applicant has limited the interference contour to include fewer than 100 residences or if the applicant:

(A) Shows that the proposed site is the only suitable location (which, at the application stage, requires a showing that the proposed site is especially well-suited to provide the proposed service);

(B) Develops a plan to control any interference caused to TV reception from operations; and

(C) Agrees to make such adjustments in the TV receivers affected as may be necessary to eliminate interference caused by its operations.

(ix) The licensee must eliminate any interference caused by its operation to TV Channel 7 reception within 30 days after notification in writing by the Commission. If this interference is not removed within this 30-day period, operation of the base station must be discontinued. The licensee is expected to help resolve all complaints of interference.

[FR Doc. E8-24309 Filed 10-10-08; 8:45 am]

BILLING CODE 6712-01-P